Proclamation 10742 of April 30, 2024

Law Day, U.S.A., 2024

By the President of the United States of America

A Proclamation

Over two centuries ago, our Founding Fathers created the United States of America based on an idea: We are all created equal and deserve to be treated equally throughout our lives. Ours would be a government by and for the people, enshrining in our Constitution, over time, the right to vote and to have that vote counted—the threshold of our liberty and democracy. On Law Day, we recommit to protecting this Constitutional right. We reflect on the enduring power of “We the People.” We rededicate ourselves to the ongoing pursuit of perfecting our Union.

Right now, we face a rare moment in the history of our Union: Freedom is under attack at home and abroad, at the very same time. Overseas, Russia is continuing its brutal assault against Ukraine's sovereignty, attempting to sow chaos throughout Europe and beyond. Here at home, our democracy is facing threats from waves of States that have proposed dozens of anti-voting laws to suppress the will of the people—reflecting the same dark motivations of the violent mob that stormed the Capitol 3 years ago in an effort to overturn a free and fair election.

Simply put: We are in a battle for the soul of our Nation—between those who want to pull America back to the past and those who want to move America into the future.

I am determined to move our Nation forward to build a future based on equality, decency, and dignity. In this country, that effort begins and ends with the ballot box. That is why I signed an Executive Order that promotes access to voting—from making vote.gov available in 12 languages to providing voter registration services at naturalization ceremonies for our Nation's newest citizens. I also signed into law the Electoral Count Reform Act, which establishes clear guidelines for certifying and counting electoral votes so no mob can again believe that, through violence, it can suppress the will of the people. The Department of Justice has doubled its voting rights staff, increasing their capacity to hold people accountable for voter suppression. Further, the Department is promoting equal access to justice to help every American have access to quality legal aid. I continue to call on the Congress to pass the John Lewis Voting Rights Advancement Act and the Freedom to Vote Act. Passing these laws would mean the Department can take action against discriminatory voting laws before they go into effect. It is critical to fully secure the right to vote in every State.

We also have to make sure every voice in America has an opportunity to be heard because diversity is our Nation's greatest strength. That is why I signed the COVID-19 Hate Crimes Act into law, which helps State and local law enforcement better track and identify hate crimes. My Administration also convened the first-ever White House summit on combating hate-fueled violence, working with community leaders across the country to ensure hate has no safe harbor in America.

At the same time, we are committed to defending freedom around the world. The United States has brought together a coalition of more than 50 nations to support the brave people of Ukraine as they defend themselves and their sovereignty against Russia's vicious onslaught. We unified NATO—the greatest military alliance in the history of the world—and have continued to defend liberty, democracy, and the rule of law. Together, we have made it clear that the United States stands up for freedom. We stand strong with our allies. We bow down to no one—certainly not Vladimir Putin.

America can and should be a Nation that defends democracy, protects our rights and freedoms, and pioneers a future of possibilities for all Americans. History and common sense show us that this can only come to pass in a democracy, and we must be its keepers. Democracy begins with and will be preserved by “We the People,” in habits of the heart and in our character; in optimism that is tested yet endures; in courage that digs deep when we need it; and in the willingness to see each other not as enemies but as fellow Americans. This Law Day, U.S.A., may we recommit to protecting every American's right to vote as we build a Union that is free and fair, just and strong, and noble and whole.

NOW, THEREFORE, I, JOSEPH R. BIDEN JR., President of the United States of America, in accordance with Public Law 87-20, as amended, do hereby proclaim May 1, 2024, as Law Day, U.S.A. I call upon all Americans to acknowledge the importance of our Nation's legal and judicial systems with appropriate ceremonies and activities and to display the flag of the United States in support of this national observance.

IN WITNESS WHEREOF, I have hereunto set my hand this thirtieth day of April, in the year of our Lord two thousand twenty-four, and of the Independence of the United States of America the two hundred and forty-eighth.

[FR Doc. 2024-09822

Filed 5-2-24; 8:45 am]

Billing code 3395-F4-P